DEPARTMENT OF HOMELAND SECURITY

Transportation Security Administration

[Docket No. TSA-2004-19515]

Intent To Request Extension From OMB of One Current Public Collection of Information: Air Cargo Security Requirements

AGENCY: Transportation Security Administration, DHS.

ACTION: 60-Day notice.

SUMMARY: The Transportation Security Administration (TSA) invites public comment on one currently approved Information Collection Request (ICR), Office of Management and Budget (OMB) control number 1652-0040, abstracted below that we will submit to OMB for an extension in compliance with the Paperwork Reduction Act (PRA). The ICR describes the nature of the information collection and its expected burden. This ICR involves three broad categories of affected populations operating under a security program: aircraft operators, foreign air carriers, and indirect air carriers. The collections of information that make up this ICR include security programs, security threat assessments (STA) on certain individuals, known shipper data via the Known Shipper Management System (KSMS), Indirect Air Carrier Management System (IACMS), and evidence of compliance recordkeeping.

DATES: Send your comments by September 1, 2023.

ADDRESSES: Comments may be emailed to TSAPRA@tsa.dhs.gov or delivered to the TSA PRA Officer, Information Technology (IT), TSA-11, Transportation Security Administration, 6595 Springfield Center Drive, Springfield, VA 20598-6011.

FOR FURTHER INFORMATION CONTACT: Christina A. Walsh at the above address, or by telephone (571) 227-2062.

SUPPLEMENTARY INFORMATION:

Comments Invited

In accordance with the Paperwork Reduction Act of 1995 (44 U.S.C. 3501 et seq.), an agency may not conduct or sponsor, and a person is not required to respond to, a collection of information unless it displays a valid OMB control number. The ICR documentation will be available at https://www.reginfo.gov upon its submission to OMB. Therefore, in preparation for OMB review and approval of the following information collection, TSA is soliciting comments to—

(1) Evaluate whether the proposed information requirement is necessary for the proper performance of the functions of the agency, including whether the information will have practical utility;

(2) Evaluate the accuracy of the agency's estimate of the burden;

(3) Enhance the quality, utility, and clarity of the information to be collected; and

(4) Minimize the burden of the collection of information on those who are to respond, including using appropriate automated, electronic, mechanical, or other technological collection techniques or other forms of information technology.

Information Collection Requirement

OMB Control Number 1652-0040 Air Cargo Security Requirements, 49 CFR parts 1515, 1540, 1542, 1544, 1546, and 1548. Under the authority of 49 U.S.C. 44901, TSA's regulations impose screening requirements for cargo and other property transported on commercial aircraft (passenger and all-cargo). Chapter XII of title 49, Code of Federal Regulations defines how TSA screens all property, including U.S. mail, cargo, carry-on and checked baggage, and other articles, that will be carried aboard passenger and cargo aircraft. Pursuant to the requirements of the Implementing Recommendations of the 9/11 Commission Act of 2007, TSA now screens 100 percent of cargo transported on passenger aircraft ¹ and continues to improve cargo security with a multi-layered approach to cargo screening. Collections of information associated with these cargo screening requirements fall under OMB control number 1652-0053.

¹ See section 1602 of Public Law 110-53 (August 3, 2007; 121 Stat. 266), as codified at 49 U.S.C. 44901(g).

The extension of this ICR is necessary to ensure compliance with TSA's regulations covering the acceptance, handling, and screening of cargo transported by air. The uninterrupted collection of this information will allow TSA to continue to ensure implementation of these vital security measures for the protection of the traveling public.

Data Collection

This information collection requires entities regulated by TSA, which includes aircraft operators, foreign air carriers, and indirect air carriers (IACs), to collect certain information as part of the implementation of a standard security program, to submit modifications to the standard security program to TSA for approval, and update such programs as necessary. As part of these security programs, the regulated entities must also collect personal information and submit such information to TSA so that TSA may conduct STAs on individuals with unescorted access to cargo. This includes each individual who is a general partner, officer, or director of an IAC or an applicant to be an IAC, and certain owners of an IAC or an applicant to be an IAC; and any individual who has responsibility for screening cargo under 49 CFR parts 1544, 1546, or 1548.

Further, both companies and individuals whom aircraft operators, foreign air carriers, and IACs have qualified to ship cargo on passenger aircraft, also referred to as “known shippers,” must submit information to TSA. This information is collected electronically through the KSMS. In accordance with TSA security program requirements, regulated entities may use an alternate manual submission method to identify known shippers.

Regulated entities must also enter into IACMS the information required from applicants requesting to be approved as IACs in accordance with 49 CFR 1548.7 and the information required for their IAC annual renewal. Regulated entities must also maintain records, including records pertaining to security programs, training, and compliance to demonstrate adherence with the regulatory requirements. These records must be made available to TSA upon request. The forms used in this collection of information include the Aviation Security Known Shipper Verification Form and the Security Threat Assessment Application.

Finally, select aircraft operators and foreign air carriers operating under certain amendments to their security programs must provide to TSA detailed screening volumes and the methodology utilized to arrive at these volumes, as well as demonstrating progress toward full compliance with the cargo security measures specified in such amendments.

Estimated Burden Hours

This ICR covers multiple activities. TSA estimates that there will be—

(1) 3,575 annual respondents regarding Security Programs, for an annual hour burden of 14,335;

(2) 1,546 annual respondents regarding Security Program Amendments, for an annual hour burden of 1,546.

(3) 98,500 annual responses from regulated entities applying for an STA, for an annual hour burden of 24,625;

(4) 801,400 annual responses from regulated entities accessing the KSMS, for an annual hour burden of 28,067; and

(5) 3,575 annual respondents to the Security Program and STA recordkeeping requirement, for an annual hour burden of 8,504.

Comprehensively, TSA estimates total annual respondents of 3,575 and annual burden of 77,077 hours for this collection.

Dated: June 28, 2023.
Christina A. Walsh,
TSA Paperwork Reduction Act Officer, Information Technology.

[FR Doc. 2023-14095 Filed 6-30-23; 8:45 am]

BILLING CODE 9110-05-P